DEPARTMENT OF HEALTH AND HUMAN SERVICES

National Institutes of Health

National Eye Institute; Notice of Closed Meetings

Pursuant to section 1009 of the Federal Advisory Committee Act, as amended, notice is hereby given of the following meetings.

The meetings will be closed to the public in accordance with the provisions set forth in sections 552b(c)(4) and 552b(c)(6), title 5 U.S.C., as amended. The grant applications and the discussions could disclose confidential trade secrets or commercial property such as patentable material, and personal information concerning individuals associated with the grant applications, the disclosure of which would constitute a clearly unwarranted invasion of personal privacy.

Name of Committee: National Eye Institute Special Emphasis Panel; RFA: Research for Low Vision and Blindness Accessibility Tools (R61/R33).

Date: November 20, 2024.

Time: 10:00 a.m. to 5:00 p.m.

Agenda: To review and evaluate grant applications.

Address: National Eye Institute, 6700 Rockledge Dr., Bethesda, MD 20817.

Meeting Format: Virtual Meeting.

Contact Person: Brian Hoshaw, Ph.D., Chief, Scientific Review Branch, Division of Extramural Research, National Eye Institute, National Institutes of Health, 6700 B Rockledge Dr., Rockville, MD 20892, 301-451-2020, hoshawb@mail.nih.gov.

Name of Committee: National Eye Institute Special Emphasis Panel; Conference Grant Applications (R13).

Date: November 21, 2024.

Time: 10:00 a.m. to 2:00 p.m.

Agenda: To review and evaluate grant applications.

Address: National Eye Institute, 6700 Rockledge Dr., Bethesda, MD 20817.

Meeting Format: Virtual Meeting.

Contact Person: Jennifer C Schiltz, Ph.D., Scientific Review Officer, Scientific Review Branch, Division of Extramural Activities, National Eye Institute, Bethesda, MD 20817, 240-276-5864, jennifer.schiltz@nih.gov.

(Catalogue of Federal Domestic Assistance Program No. 93.867, Vision Research, National Institutes of Health, HHS)

Dated: October 10, 2024
Victoria E. Townsend,
Program Analyst, Office of Federal Advisory Committee Policy.

[FR Doc. 2024-23873 Filed 10-16-24; 8:45 am]

BILLING CODE 4140-01-P